COMMITTEE FOR PURCHASE FROM PEOPLE WHO ARE BLIND OR SEVERELY DISABLED

Procurement List; Deletions

AGENCY: Committee for Purchase From People Who Are Blind or Severely Disabled.

ACTION: Deletions from the procurement list.

SUMMARY: This action deletes product(s) and service(s) from the Procurement List that were furnished by nonprofit agencies employing persons who are blind or have other severe disabilities.

DATES: Date added to and deleted from the Procurement List: September 15, 2024.

ADDRESSES: Committee for Purchase From People Who Are Blind or Severely Disabled, 355 E Street SW, Washington, DC 20024.

FOR FURTHER INFORMATION CONTACT: For further information or to submit comments contact: Michael R. Jurkowski, Telephone: (703) 489-1322 or email CMTEFedReg@AbilityOne.gov.

SUPPLEMENTARY INFORMATION:

Deletions

On 7/12/2024 (89 FR 57134), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 7520-01-377-9533—Cord Connector/Rotator, Telephone, Detangler, Clear

Authorized Source of Supply: BESTWORK INDUSTRIES FOR THE BLIND, INC, Cherry Hill, NJ

Contracting Activity: GSA/FAS ADMIN SVCS ACQUISITION BR(2, NEW YORK, NY

NSN(s)—Product Name(s):

7530-00-286-4337—Paper, Loose-Leaf, Ruled, White, 8½″ x 11″

7530-00-286-4338—Paper, Loose-Leaf, Ruled, White, 9½″ x 6″

7530-00-286-6366—Paper, Loose-Leaf, Ruled, White, 6¾″ x 3¾″

Authorized Source of Supply: Alabama Industries for the Blind, Talladega, AL

Contracting Activity: GSA/FAS ADMIN SVCS ACQUISITION BR(2, NEW YORK, NY

NSN(s)—Product Name(s): 7510-00-782-6274—Envelope, Transparent, 4½″ x 11¼″

Authorized Source of Supply: NEWVIEW Oklahoma, Inc, Oklahoma City, OK

Contracting Activity: GSA/FAS ADMIN SVCS ACQUISITION BR(2, NEW YORK, NY

NSN(s)—Product Name(s): 7510-00-782-6274—Envelope, Transparent, 4½″ x 11¼″

Authorized Source of Supply: Winston-Salem Industries for the Blind, Inc, Winston-Salem, NC

Contracting Activity: GSA/FAS ADMIN SVCS ACQUISITION BR(2, NEW YORK, NY

NSN(s)—Product Name(s): 7930-00-NIB-0761—Glass Cleaner, Biobased, Heavy Duty, Spray Pump Bottle, 16 oz, EA/1

Authorized Source of Supply: Lighthouse for the Blind of Houston, Houston, TX

Contracting Activity: GSA/FSS GREATER SOUTHWEST ACQUISITI, FORT WORTH, TX

Service(s)

Service Type: Document Destruction

Mandatory for: NARA—Pacific Alaska Region: 6125 Sand Point Way NE, Seattle, WA

Authorized Source of Supply: Northwest Center, Seattle, WA

Contracting Activity: NATIONAL ARCHIVES AND RECORDS ADMINISTRATION, NARA FACILITIES

Service Type: Janitorial/Custodial Service

Mandatory for: National Oceanic & Atmospheric Administration, National Weather Service Office, Except Communication & Electrical Room, 500 Airport Blvd., #115, Lakes Charles, LA;

Contracting Activity: NATIONAL OCEANIC AND ATMOSPHERIC ADMINISTRATION, WESTERN ACQUISITION DIVISION—BOULDER

Service Type: Janitorial Service

Mandatory for: Federal Aviation Administration, Norfolk Air Traffic Control Tower, 1245 Miller Store Road Virginia Beach, VA and Patrick Henry Field Air Traffic Control Tower; Newport News, VA

Authorized Source of Supply: Portco, Inc., Portsmouth, VA

Contracting Activity: FEDERAL AVIATION ADMINISTRATION, 697DCK REGIONAL ACQUISITIONS SVCS

Service Type: Shelf Stocking, Custodial & Warehousing

Mandatory for: Defense Commissary Agency, Kaneohe Bay Marine Corps Base Commissary, Mokapu Road, Kaneohe Bay, HI

Authorized Source of Supply: Trace, Inc., Boise, ID

Contracting Activity: DEFENSE COMMISSARY AGENCY (DECA), DEFENSE COMMISSARY AGENCY

Service Type: Shelf Stocking, Custodial & Warehousing

Mandatory for: U.S. Coast Guard Support Center, Kodiak, AK

Authorized Source of Supply: MQC Enterprises, Inc., Anchorage, AK

Contracting Activity: DEFENSE COMMISSARY AGENCY (DECA), DEFENSE COMMISSARY AGENCY

Service Type: Recycling Service

Mandatory for: US Air Force, 251 4th Street Laughlin Air Force Base, Laughlin AFB, TX

Authorized Source of Supply: Goodwill Industries of San Antonio Contract Services, San Antonio, TX

Contracting Activity: DEPT OF THE AIR FORCE, FA3099 47 CONS-CC

Service Type: Food Service Attendant

Mandatory for: Wisconsin Air National Guard, 115th Fighter Wing, 3110 Mitchell Street Building 500, Truax Field, Madison, WI

Contracting Activity: DEPT OF THE ARMY, W7N8 USPFO ACTIVITY WI ARNG

Service Type: Shelf Stocking & Custodial

Mandatory for: Defense Commissary Agency, Fort Wainwright Commissary/CDC, 1060 Gaffney Road; Fort Wainwright, AK

Authorized Source of Supply: MQC Enterprises, Inc., Anchorage, AK

Contracting Activity: DEFENSE COMMISSARY AGENCY (DECA), DEFENSE COMMISSARY AGENCY

Service Type: Recycling Service

Mandatory for: US Air Force, Robins Air Force Base, 215 Page Road; Robins AFB, GA

Contracting Activity: DEPT OF THE AIR FORCE, FA8501 AFSC PZIO

Service Type: Food Service Attendant

Mandatory for: US Air Force, Iowa Air National Guard, 3100 McKinley Avenue, Des Moines, IA

Contracting Activity: DEPT OF THE ARMY, W7M8 USPFO ACTIVITY IA ARNG

Service Type: Recycling Service

Mandatory for: US Air Force, Dobbins Air Reserve Base, 1538 Atlantic Avenue, Dobbins ARB, GA

Authorized Source of Supply: Nobis Enterprises, Inc., Marietta, GA

Contracting Activity: DEPT OF THE AIR FORCE, FA6703 94 LG LGC

Service Type: Painting Service

Mandatory for: US Air Force, 101 Bodin Circle, Travis Air Force Base, CA

Authorized Source of Supply: PRIDE Industries, Roseville, CA

Contracting Activity: DEPT OF THE AIR FORCE, FA4427 60 CONS LGC

Service Type: Laundry Service

Mandatory for: US Air Force, Joint Base Andrews and Joint Base Ancostia-Bolling, Joint Base Andrews, MD, 1349 Lutman Drive, Joint Base Andrews, MD

Authorized Source of Supply: Louise W. Eggleston Center, Inc., Norfolk, VA

Contracting Activity: DEPT OF THE AIR FORCE, FA2860 11 CONS LGC

Michael R. Jurkowski,
Director, Business Operations.

[FR Doc. 2024-18368 Filed 8-15-24; 8:45 am]

BILLING CODE 6353-01-P